DEPARTMENT OF JUSTICE

Notice of Lodging of Proposed Consent Decree Under the Comprehensive Environmental Response, Compensation, and Liability Act

On March 3, 2022, the Department of Justice lodged a proposed consent decree with the United States District Court for the Northern District of Indiana in the lawsuit entitled United States and State of Indiana v. Northern Indiana Public Service Company, LLC, Civil Action No. 2:22-cv-48.

The United States and the State of Indiana (the “State”) filed a complaint in this lawsuit under the Comprehensive Environmental Response, Compensation, and Liability Act (CERCLA). The United States and the State's complaint names Northern Indiana Public Service Company, LLC (“NIPSCO”), as the defendant. The complaint requests recovery of costs that the United States and the State incurred responding to releases of hazardous substances at the Town of Pines Superfund Site (“the “Site”) in Porter County, Indiana. The complaint also seeks injunctive relief. The United States, the State, and NIPSCO signed the consent decree to resolve the claims in the complaint. NIPSCO agrees to pay $619,632.16 of the United States' response costs already incurred, to pay for the United States' and the State's costs to be incurred, and to perform the remedial action that EPA selected for the Operable Unit 2 portion of the Site at an estimated cost of $11.8 million. In return, the United States and the State of Indiana agree not to sue the defendant under sections 106 and 107 of CERCLA for work done under the consent decree and for Past Response Costs and Future Response Costs as defined by the decree.

The publication of this notice opens a period for public comment on the consent decree. Comments should be addressed to the Assistant Attorney General, Environment and Natural Resources Division, and should refer to United States and State of Indiana v. Northern Indiana Public Service Company, D.J. Ref. No. 90-11-3-12060. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $53 (25 cents per page reproduction cost) payable to the United States Treasury. For a paper copy without the appendices, the cost is $13.

Patricia Mckenna,
Assistant Section Chief, Environmental Enforcement Section, Environment and Natural Resources Division.

[FR Doc. 2022-05579 Filed 3-16-22; 8:45 am]

BILLING CODE 4410-15-P